DEPARTMENT OF COMMERCE

International Trade Administration

[C-533-825]

Polyethylene Terephthalate Film, Sheet and Strip from India: Extension of Time Limit for Final Results of Countervailing Duty Administrative Review

AGENCY: Import Administration, International Trade Administration, Department of Commerce.

EFFECTIVE DATE: November 15, 2005.

FOR FURTHER INFORMATION CONTACT: Jeff Pedersen or Drew Jackson, AD/CVD Operations, Office 4, Import Administration, International Trade Administration, U.S. Department of Commerce, 14th Street and Constitution Avenue, NW., Washington, DC 20230; telephone (202) 482-2769 or (202) 482-4406, respectively.

SUPPLEMENTARY INFORMATION:

Background

On August 30, 2004, the Department of Commerce (the Department) published in the Federal Register a notice of initiation of an administrative review of the countervailing duty order on polyethylene terephthalate film, sheet and strip from India, covering the period January 1, 2003, through December 31, 2003. See Initiation of Antidumping and Countervailing Duty Administrative Reviews and Requests for Revocation in Part, 69 FR 52857 (August 30, 2004).

On August 10, 2005, the Department published in the Federal Register the preliminary results of review. See Notice of Preliminary Results and Rescission in Part of Countervailing Duty Administrative Review: Polyethylene Terephthalate Film, Sheet and Strip From India, 70 FR 46483 (August 10, 2005). The final results of review are currently due no later than December 8, 2005.

Extension of Time Limit for Final Results of Review

Section 751(a)(3)(A) of the Tariff Act of 1930, as amended (the Act), requires the Department to make a preliminary determination in an administrative review within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

We have determined that it is not practicable to complete the final results of this review within the original time limit because the Department has required additional time to consider a number of complex issues involving certain sales tax incentive programs. Therefore, the Department is extending the time limit for completion of the final results of review by 60 days. We intend to issue the final results of review no later than February 6, 2006.

This extension is in accordance with section 751(a)(3)(A) of the Act.

Dated: November 8, 2005.
Stephen J. Claeys,
Deputy Assistant Secretary for Import Administration.

[FR Doc. E5-6301 Filed 11-14-05; 8:45 am]

BILLING CODE 3510-DS-S